DEPARTMENT OF STATE

[Public Notice 7809]

Meeting of the Joint Forum on Environmental Technical Cooperation Pursuant to the United States-Jordan Joint Statement on Environmental Technical Cooperation

ACTION: Notice of the meeting of the Joint Forum on Environmental Technical Cooperation and request for comments.

SUMMARY: The Department of State is providing notice that, as set forth in paragraph three of the United States-Jordan Joint Statement on Environmental Technical Cooperation (“Joint Statement”), the United States and Jordan will hold a meeting of the Joint Forum on Environmental Technical Cooperation (“Joint Forum”) at 9 a.m. on March 4, 2012, at the Hashemite Auditorium, Royal Scientific Society, in Amman, Jordan. If you are interested in attending, please email Rob Wing at WingRD@state.gov. See below under SUPPLEMENTARY INFORMATION for additional details on the background and purpose of the meeting.

During the meeting, the United States and Jordan intend to present a brief history of U.S.-Jordan environmental cooperation, review activities under the 2008-2011 Work Program, and approve a 2012-2013 Work Program. The entire meeting will be open to the public and include public question and answer sessions. The meeting will be conducted in English and Arabic. The Department of State invites interested organizations and members of the public to submit written comments or suggestions regarding items to include on the agenda and to attend the meeting. In preparing comments, we encourage submitters to refer to: (1) The United States-Jordan Joint Statement on Environmental Technical Cooperation; (2) the United States-Jordan 2008-2011 Work Program on Environmental Cooperation; (3) Article 5 (Environment) of the Agreement Between the United States of America and the Hashemite Kingdom of Jordan on the Establishment of a Free Trade Area (U.S.-Jordan Free Trade Agreement (FTA)); and (4) the environmental review of the U.S.-Jordan FTA. These documents are available at: http://www.state.gov/e/oes/env/trade/jordan/index.htm.

DATES: The United States and Jordan will hold the Joint Forum meeting at 9 a.m. on March 4, 2012, at the Hashemite Auditorium, Royal Scientific Society, in Amman, Jordan. If you are interested in attending, please email Rob Wing by March 2, 2012 at WingRD@state.gov. To ensure timely consideration, please submit comments and suggestions in writing no later than March 2, 2012.

ADDRESSES: Please submit written comments or suggestions via email (WingRD@state.gov) or fax ((202) 647-5947) to Rob Wing, Office of Environmental Policy, Bureau of Oceans and International Environmental and Scientific Affairs, U.S. Department of State, with the subject line “United States-Jordan Joint Forum Meeting.” If you have access to the Internet, you may make comments electronically by going to http://contact-us.state.gov/app/ask.

FOR FURTHER INFORMATION CONTACT: Rob Wing, telephone (202) 647-6780 or email (WingRD@state.gov).

SUPPLEMENTARY INFORMATION: The United States and Jordan announced the establishment of the United States-Jordan Joint Forum on Environmental Technical Cooperation (Joint Forum) when they signed the United States-Jordan Joint Statement on Environmental Technical Cooperation (Joint Statement), on October 24, 2000, along with the U.S.-Jordan FTA. The Joint Forum is to meet regularly and advance environmental protection in Jordan by developing environmental technical cooperation initiatives, which take into account environmental priorities, and which are agreed to by the two governments. In paragraph 4 of the Joint Statement, the countries identify an initial focus of technical cooperation on Jordanian environmental quality issues and the development and effective implementation of Jordanian environmental laws, as defined in Articles 5.4 and 18.2(a) of the U.S.-Jordan FTA. The Joint Forum has met twice since 2000—in September 2004 and March 2009—and issued two plans for implementing the Joint Statement. The first—a Plan of Action—focused on implementing a strategic vision for Jordan's Ministry of Environment, established in 2002, to promote sustainable economic growth and development. The plan outlined activities to, among other things, strengthen the Ministry's capacity for setting, implementing, and ensuring compliance with environmental standards; harness market forces to protect the environment while bringing economic benefits; undertake industrial wastewater treatment and hazardous waste management for a target region; seek out economic benefits of ecotourism; and promote the development of a regional network of environmental lawmakers and enforcement officials. The second, a Work Program for 2008-2011, identifies long-term goals and specifies activities in four priority areas. The long-term goals are to achieve: (1) Compliance with obligations in Article 5 (Environment) of the U.S.-Jordan FTA; (2) improved protection and conservation of the environment, including natural resources; (3) transparency and meaningful public participation in environmental decision-making; and (4) a culture of environmental protection and compliance with environmental laws through, among other things, the promotion of economic opportunities, voluntary measures to enhance environmental performance, and job creation. The priority areas are: (1) Institutional and policy strengthening; (2) biodiversity conservation and improved management of protected areas; (3) improved private sector environmental performance; and (4) environmental education, transparency, and public participation in environmental decision-making and enforcement. For the 2012-2013 Work Program, we anticipate building upon the cooperative work initiated under the previous two plans, while focusing on creating green jobs and other economic opportunities that promote green growth and sustainable development.

Dated: February 23, 2012.
George N. Sibley,
Director, Office of Environmental Policy, Department of State.

[FR Doc. 2012-4857 Filed 2-28-12; 8:45 am]

BILLING CODE 4710-09-P